DEPARTMENT OF LABOR

Office of the Secretary

Presidential Task Force on Employment of Adults With Disabilities (PTFEAD) Youth Advisory Committee; Notice of Establishment and Request for Nominations

Establishment of advisory board: This notice is published in accordance with the provisions of the Federal Advisory Committee Act (Pub. L. 92-463), and advises of the establishment of the PTFEAD Youth Advisory Committee. The Secretary of the Department of Labor (DOL), acting in her capacity as chair of the PTFEAD, has determined that the establishment of the Advisory Committee is in the public interest. In addition, the creation of the Advisory Committee is mandated pursuant to Executive Order 13078 as amended by Executive Order 13172 (October 25, 2000).

Purpose of advisory board: The Presidential Task Force on Employment of Adults with Disabilities was created in 1998 pursuant to Executive Order 13078. Its overall purpose is to develop a coordinated national strategy to ensure that people with disabilities are employed at a rate as close as possible to that of the general adult population. The committee's purpose is to provide, through the Task Force, advice and recommendations to the Secretary of Labor and her designees (including the Office of the 21st Century Workforce and the Office of Disability Employment Policy) on issues that effect the employment of young people with disabilities. PTFEAD is seeking this type of input to ensure that its activities and policy recommendations respond to the needs of youth with disabilities.

Nominations for Candidates: At this time, the PTFEAD also requests nominations of candidates for membership on the Advisory Committee. Self-nomination is permissible. The Advisory Committee will consist of a balanced, culturally diverse group of approximately 15 young people, representing a variety of disabling conditions, localities, and viewpoints who will be appointed by the Secretary of Labor. Members must be between the ages of 14 and 28 and will serve from the date of their appointment until the expiration of the Task Force on July 26, 2002, unless otherwise extended. Criteria used to evaluate candidates will include relevant experience, and demonstrated leadership, knowledge, and commitment.

DATES: Nominations of candidates should be received by no later than September 14, 2001.

ADDRESSES: Submit nominations for the list of candidates to: Richard Horne, Senior Policy Analyst, Presidential Task Force on Employment of Adults with Disabilities, 200 Constitution Avenue, NW., Room S-2220, Washington, DC 20210.

For Further Information Contact: Richard Horne at the above address, or call 202-693-4939. The Task Force will not formally acknowledge or respond to nominations.

Background

The Youth Advisory Committee will become operational when PTFEAD files copies of the Advisory Committee charter with appropriate committees of Congress and the Library of Congress. Copies of the charter are available upon request.

The function of the committee is to provide youth and young adult perspective to assist the Task Force in carrying out its mandate including providing recommendations to the Secretary of Labor and her designees (including the Office of the 21st Century Workforce and the Office of Disability Employment Policy) on ways of addressing, among other things, education, transition, health, rehabilitation, and independent living issues impacting the employment of young people with disabilities. The Advisory Committee will also provide insight on recommendations to be included in the Task Force's final report to the President.

Participants

The committee shall have about 15 members; however, meetings generally will be open to all interested parties. The Chair of the National Council on Disability's Youth Advisory Committee will be invited to serve in a non-voting ex officio capacity. Committee members shall serve from the date of their appointment until July 26, 2002, the date the Task Force terminates unless otherwise extended. The Advisory Committee shall meet at least once per year. DOL will not compensate committee members for their service.

PTFEAD intends to hold the initial meeting of the Advisory Committee in the fall of 2001. Accordingly, nominations should be submitted to the Task Force no later than September 14, 2001.

Nomination Procedures

Interested persons may nominate one or more qualified persons for membership on the committee. Self nominations are also accepted. A letter of nomination which identifies the name, age, address, and telephone number of the candidate should be submitted. A parental permission statement for nominees who are under the age of 18 will be necessary.

Signed in Washington, D.C., on the 25th day of July, 2001.
Elaine L. Chao,
Secretary of Labor, Chair, Presidential Task Force on Employment of Adults with Disabilities.

[FR Doc. 01-19402 Filed 8-2-01; 8:45 am]

BILLING CODE 4510-23-U